DEPARTMENT OF ENERGY

Federal Energy Regulatory Commission

Combined Notice of Filings #1

Take notice that the Commission received the following exempt wholesale generator filings:

Docket Numbers: EG22-93-000.

Applicants: LI Solar Generation, LLC.

Description: LI Solar Generation, LLC submits Notice of Self-Certification of Exempt Wholesale Generator Status.

Filed Date: 4/6/22.

Accession Number: 20220406-5259.

Comment Date: 5 p.m. ET 5/19/22.

Take notice that the Commission received the following electric rate filings:

Docket Numbers: ER10-2528-006.

Applicants: Aragonne Wind LLC.

Description: Notice of Change in Status of Aragonne Wind LLC.

Filed Date: 4/27/22.

Accession Number: 20220427-5390.

Comment Date: 5 p.m. ET 5/18/22.

Docket Numbers: ER10-2529-006; ER10-2534-007.

Applicants: Kumeyaay Wind LLC, Buena Vista Energy, LLC.

Description: Notice of Change in Status of Buena Vista Energy, LLC, et al.

Filed Date: 4/27/22.

Accession Number: 20220427-5389.

Comment Date: 5 p.m. ET 5/18/22.

Docket Numbers: ER20-2133-003.

Applicants: ISO New England Inc., Versant Power.

Description: Compliance filing: ISO New England Inc. submits tariff filing per 35: Versant Power; Changes to Schedule 21-VP in Compliance with Order No. 864 to be effective 1/27/2020.

Filed Date: 4/28/22.

Accession Number: 20220428-5234.

Comment Date: 5 p.m. ET 5/19/22.

Docket Numbers: ER22-1695-000.

Applicants: American Electric Power Service Corporation, PJM Interconnection, L.L.C.

Description: § 205(d) Rate Filing: American Electric Power Service Corporation submits tariff filing per 35.13(a)(2)(iii: AEP submits update to Attachment 1 of ILDSA, SA No. 1336 (4/27/22) to be effective 4/1/2022.

Filed Date: 4/27/22.

Accession Number: 20220427-5293.

Comment Date: 5 p.m. ET 5/18/22.

Docket Numbers: ER22-1696-000.

Applicants: AEP Texas Inc.

Description: § 205(d) Rate Filing: AEPTX-Barilla Solar 2nd A&R Generation Interconnection Agreement to be effective 4/11/2022.

Filed Date: 4/27/22.

Accession Number: 20220427-5330.

Comment Date: 5 p.m. ET 5/18/22.

Docket Numbers: ER22-1697-000.

Applicants: Southwest Power Pool, Inc.

Description: Compliance filing: Order No. 2222 Compliance Filing to be effective 12/31/9998.

Filed Date: 4/28/22.

Accession Number: 20220428-5171.

Comment Date: 5 p.m. ET 5/19/22.

Docket Numbers: ER22-1698-000.

Applicants: EDF Spring Field WPC, LLC.

Description: Baseline eTariff Filing: Initial Market-Based Rate Petition of EDF Spring Field to be effective 6/27/2022.

Filed Date: 4/28/22.

Accession Number: 20220428-5173.

Comment Date: 5 p.m. ET 5/19/22.

Docket Numbers: ER22-1699-000.

Applicants: Public Service Company of Colorado.

Description: § 205(d) Rate Filing: 2022-04-28 TSGT Facility Study-692-0.0.0 to be effective 4/29/2022.

Filed Date: 4/28/22.

Accession Number: 20220428-5177.

Comment Date: 5 p.m. ET 5/19/22.

Docket Numbers: ER22-1700-000.

Applicants: New York Independent System Operator, Inc., Niagara Mohawk Power Corporation.

Description: § 205(d) Rate Filing: New York Independent System Operator, Inc. submits tariff filing per 35.13(a)(2)(iii: 205: CRA between Niagara Mohawk and RG&E for Farmington Substation 168 (SA 2703) to be effective 4/1/2022.

Filed Date: 4/28/22.

Accession Number: 20220428-5192.

Comment Date: 5 p.m. ET 5/19/22.

Docket Numbers: ER22-1701-000.

Applicants: Midcontinent Independent System Operator, Inc.

Description: § 205(d) Rate Filing: 2022-04-28_SA 3823 UEC-Montgomery Solar FSA (J987) to be effective 6/28/2022.

Filed Date: 4/28/22.

Accession Number: 20220428-5194.

Comment Date: 5 p.m. ET 5/19/22.

Docket Numbers: ER22-1702-000.

Applicants: Niagara Mohawk Power Corporation, New York Independent System Operator, Inc.

Description: § 205(d) Rate Filing: Niagara Mohawk Power Corporation submits tariff filing per 35.13(a)(2)(iii: 205 NMPC SGIAs between Bayside2704, Beta2705, Central2706, Creek2707, Helmet2708 to be effective 4/1/2022.

Filed Date: 4/28/22.

Accession Number: 20220428-5211.

Comment Date: 5 p.m. ET 5/19/22.

Docket Numbers: ER22-1703-000.

Applicants: Salem Harbor Power Development LP.

Description: § 205(d) Rate Filing: Name Change—Salem Harbor Power Development LP to be effective 4/29/2022.

Filed Date: 4/28/22.

Accession Number: 20220428-5233.

Comment Date: 5 p.m. ET 5/19/22.

Docket Numbers: ER22-1704-000.

Applicants: Midcontinent Independent System Operator, Inc.

Description: § 205(d) Rate Filing: 2022-04-28_SA 3819 Ameren Missouri-Lutesville Solar FSA (J1107) to be effective 6/28/2022.

Filed Date: 4/28/22.

Accession Number: 20220428-5244.

Comment Date: 5 p.m. ET 5/19/22.

Docket Numbers: ER22-1705-000.

Applicants: PJM Interconnection, L.L.C.

Description: Tariff Amendment: Notice of Cancellation of WMPA, SA No. 3928; Queue No. Z1-106 to be effective 4/29/2022.

Filed Date: 4/28/22.

Accession Number: 20220428-5258.

Comment Date: 5 p.m. ET 5/19/22.

Docket Numbers: ER22-1706-000.

Applicants: PJM Interconnection, L.L.C.

Description: Tariff Amendment: Notice of Cancellation of WMPA, SA No. 3929; Queue No. Z1-107 to be effective 4/29/2022.

Filed Date: 4/28/22.

Accession Number: 20220428-5266.

Comment Date: 5 p.m. ET 5/19/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2022.
Debbie-Anne A. Reese,
Deputy Secretary.

[FR Doc. 2022-09544 Filed 5-3-22; 8:45 am]

BILLING CODE 6717-01-P